DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 8, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with part 107 of the Federal hazardous materials transportation law (49 U.S.C. 5117(b); 49 CFR 1.53(b)).

Issued in Washington, DC, on April 3, 2018.
Donald Burger,
Chief, General Approvals and Permits Branch.

Application No. | Applicant | Regulation(s) affected | Nature of the special permits thereof
SPECIAL PERMITS DATA
8757-M | Special Permits Data Milton Roy, LLC | 173.201(c), 173.202(c), 173.203(c), 173.302a(a)(1), 173.304a(a)(1), 180.205 | To modify the special permit to authorize the addition of welded lower pressure cylinders in addition to the seamless cylinders already authorized. (modes 1, 2, 3, 4)
11526-M | Linde Gas North America LLC | 172.203(a), 173.302a(b), 180.205(a), 180.205(c), 180.205(f), 180.205(g), 180.209(a), 180.209(b), 180.209(g) | To modify the special permit to authorize the removal of annual gain linearity requirement, update RIN locations and update the language on area corrosion patch requirement. (modes 1, 2, 3, 4, 5)
12399-M | Linde Gas North America LLC | 172.203(a), 172.301(c), 180.205 | To modify the special permit to remove the annual reporting requirement, to adjust the check gain control accuracy requirement from annually to checked for a new Ultrasonic System and to update the language3 on min-wall patch requirements. (modes 1, 2, 3, 4, 5)
12748-M | Lockheed Martin Corporation | 172.301(a), 173.62, 173.62 | To modify the special permit to authorize additional 1.1D explosives. (mode 1)
13208-M | Provensis LTD | 172.400, 172.500, 172.200, 173.302a(a)(1) | To modify the special permit to add additional hazmat to bring permit in line with international standards. (modes 1, 2, 3, 4)
13208-M | BTG International Limited | 172.400, 172.500, 172.200, 173.302a(a)(1) | To modify the special permit to authorize an additional hazmat to bring the permit in line with international regulations. (modes 1, 2, 3, 4)
13250-M | Pacific Consolidated Industries LLC | 173.302a(a)(1), 173.304a(a)(1) | To modify the special permit to authorize an extension of cylinder life utilizing the Modal Acoustic Emission (MAE) test method. (modes 1, 2, 3, 4, 5)
14509-M | Pacific Consolidated Industries LLC | 173.302(a), 173.302(f)(3), 173.302(f)(4), 173.302(f)(5), 173.304(a), 175.501(e)(3) | To modify the special permit to authorize an extension of cylinder life utilizing the Modal Acoustic Emission (MAE) test method. (modes 1, 2, 3, 4, 5)
20435-M | Atieva USA INC | 172.101(j), 173.185(a) | To modify the special permit to authorize the transportation in commerce of lithium ion batteries in excess of 35 kg by cargo-only aircraft. (modes 1, 2, 4)
20549-M | Cornerstone Architectural Products LLC | 172.400, 172.700(a), 172.102(c)(1), 172.200, 172.300 | To modify the special permit to authorize a specially designed packaging filled with a material formulated to suppress lithium battery fires and absorb the smoke, gases and flammable electrolyte associate with those fires. (modes 1, 3)

[FR Doc. 2018-08374 Filed 4-20-18; 8:45 am]

BILLING CODE 4909-60-P